DEPARTMENT OF THE TREASURY

Submission for OMB Review; Comment Request

July 10, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 19, 2002, to be assured of consideration.

Internal Revenue Service (IRS)

OMB Number: 1545-0119.

Form Number: IRS Form 1099-R.

Type of Review: Extension.

Title: Distributions From Pensions, Annuities, Retirement or Profit-Sharing Plans, IRAs, Insurance Contracts, etc.

Description: Form 1099-R is used to report distributions from pensions, annuities, profit-sharing or retirement plans, IRAs, and the surrender of insurance contracts. This information is used by IRS to verify that income has been properly reported by the recipient.

Respondents: Business or other for-profit, Not-for-profit institutions, Federal Government, State, Local or Tribal Government.

Estimated Number of Respondents: 350,000.

Estimated Burden Hours Per Respondent: 18 minutes.

Frequency of Response: Annually.

Estimated Total Reporting Burden: 18,704,546 hours.

OMB Number: 1545-0235.

Form Number: IRS Form 730.

Type of Review: Revision.

Title: Monthly Tax on Wagering.

Description: Form 730 is used to identify taxable wagers and collect the tax monthly. The information is used to determine if persons accepting wagers are correctly reporting the amount of wagers and paying the required tax.

Respondents: Business or other for-profit, Individuals or households.

Estimated Number of Respondents/Recordkeepers: 4,150.

Estimated Burden Hours Per Respondent/Recordkeeper:

Recordkeeping—5 hr., 44 min.

Learning about the law or the form—53 min.

Preparing, copying, assembling and sending the form to the IRS—1 hr., 1 min.

Frequency of Response: Monthly.

Estimated Total Reporting/Recordkeeping Burden: 391,289 hours.

OMB Number: 1545-0415.

Form Number: IRS Form W-4P.

Type of Review: Extension.

Title: Withholding Certificate for Pension or Annuity Payments.

Description: Form W-4P is used by the recipient of pension or annuity payments to designate the number of withholding allowances he or she is claiming, an additional amount to be withheld, or to elect that no tax be withheld, so that the payer can withhold the proper amount.

Respondents: Individuals or households.

Estimated Number of Respondents/Recordkeepers: 12,000,000.

Estimated Burden Hours Per Respondent/Recordkeeper:

Recordkeeping—39 min.

Learning about the law or the form—24 min.

Preparing and sending the form to the IRS—59 min.

Frequency of Response: On occasion.

Estimated Total Reporting/Recordkeeping Burden: 24,600,000 hours.

OMB Number: 1545-0877.

Form Number: IRS Form 1099-A.

Type of Review: Extension.

Title: Acquisition or Abandonment of Secured Property.

Description: Form 1099-A is used by lenders to report foreclosures and abandonments of property that is security for a loan.

Respondents: Business or other for-profit.

Estimated Number of Respondents: 12,916.

Estimated Burden Hours Per Respondent: 10 minutes.

Frequency of Response: Annually.

Estimated Total Reporting Burden: 61,817 hours.

Clearance Officer: Glenn Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Lois K. Holland,
Departmental Reports Management Officer.

[FR Doc. 02-18247 Filed 7-18-02; 8:45 am]

BILLING CODE 4830-01-P